ENVIRONMENTAL PROTECTION AGENCY

40 CFR Part 180

[EPA-HQ-OPP-2006-0766; FRL-5031-12-OCSPP]

RIN 2070-AJ28

Pesticides; Expansion of Crop Grouping Program VI

AGENCY: Environmental Protection Agency (EPA).

ACTION: Proposed rule.

SUMMARY: The Environmental Protection Agency (EPA) is proposing revisions to its pesticide tolerance crop grouping regulations, which allow the establishment of tolerances for multiple related crops based on data from a representative set of crops. EPA is proposing amendments to Crop Group 6: Legume Vegetables; Crop Group 7: Foliage of Legume Vegetables; Crop Group 15: Cereal Grains; and Crop Group 16: Forage, Fodder and Straw of Cereal Grains. EPA is also proposing amendments to the associated commodity definitions. This is the sixth in a series of planned crop group updates expected to be prepared over the next several years.

DATES: Comments must be received on or before March 11, 2022.

ADDRESSES: Submit your comments, identified by docket identification (ID) number EPA-HQ-OPP-2006-0766, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

Due to the public health concerns related to COVID-19. The EPA Docket Center (EPA/DC) and Reading Room is open to visitors by appointment only. The staff continues to provide remote customer service via email, phone, and webform. For the latest status information on EPA/DC services and docket access, visit https://www.epa.gov/dockets.

FOR FURTHER INFORMATION CONTACT: Sara Kemme; Mission Support Division (7101M), Office of Program Support, Environmental Protection Agency, 1200 Pennsylvania Ave. NW, Washington, DC 20460-0001; telephone number 202-566-1217; email address: kemme.sara@epa.gov.

SUPPLEMENTARY INFORMATION:

I. Executive Summary

A. Does this action apply to me?

You may be potentially affected by this action if you are an agricultural producer, pesticide manufacturer, or food manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532)

B. What is the Agency's authority for taking this action?

The EPA is initiating this rulemaking to amend the existing crop grouping regulations under section 408(e)(1)(C) of the Federal Food, Drug, and Cosmetic Act (FFDCA), which authorizes EPA to establish “general procedures and requirements to implement [section 408].” 21 U.S.C. 346a(e)(1)(C). Under FFDCA section 408, EPA is authorized to establish tolerances for pesticide chemical residues in food. EPA establishes tolerances for each pesticide based on data on the pesticide residues and the potential risks to human health posed by that pesticide. A tolerance is the maximum permissible residue level established for a pesticide in raw agricultural commodities and processed foods. The crop group regulations currently in 40 CFR 180.40 and 180.41 enable the establishment of tolerances for a group of crops based on residue data for certain crops that are representative of the group.

C. What should I consider as I prepare my comments for EPA?

1. Submitting CBI

Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments

When preparing and submitting your comments, see the commenting tips at https://www.epa.gov/dockets/comments.html.

D. What action is the Agency taking?

This proposed rule is the sixth in an ongoing series of crop group updates, including additional updates expected to be promulgated in the next several years. EPA is proposing revisions to EPA's regulations governing crop group tolerances for pesticides. Specifically, this rule is proposing revisions to Crop Group 6: Legume Vegetables (Succulent or Dried) Group; Crop Group 7: Foliage of Legume Vegetables Group; Crop Group 15: Cereal Grains Group; and Crop Group 16: Forage, Fodder, and Straw of Cereal Grains Group. The proposed changes include changes to the terminology in the names of Crop Groups 6, 7 and 16, the addition of commodities, and changes that advance international harmonization. In addition, the proposed changes include revisions to the subgroups for Crop Group 6 and the addition of subgroups for Crop Group 15. EPA is also proposing additions and revisions to associated commodity definitions at 40 CFR 180.1(g). Unit III of this proposal includes a detailed description of the proposed changes.

E. Why is the Agency taking this action?

EPA sets tolerances, which are the maximum amount of a pesticide allowed to remain in or on a food, as part of the process of regulating pesticides that may leave residues in food. Crop groups are established when residue data for certain representative crops are used to establish pesticide tolerances for a group of crops that are botanically or taxonomically related. Representative crops of a crop group or subgroup are those crops whose residue data can be used to establish a tolerance for the entire group or subgroup.

With the establishment of crop groups such as the ones being revised in this proposed rule, EPA seeks to:

• Enhance our ability to conduct food safety evaluations on crops for tolerance-setting purposes;

• Promote global harmonization of food safety standards;

• Reduce regulatory burden; and

• Ensure food safety for agricultural goods.

F. What are the estimated incremental economic impacts of this action?

EPA prepared an Economic Analysis which concludes that this is a burden-reducing regulation (Ref. 1). Crop grouping permits the results of pesticide residue studies for some crops, called representative crops, to be applied to other, similar crops in the group. EPA expects these revisions to promote greater use of crop groupings for tolerance-setting purposes, both domestically and in countries that export food to the U.S.

The estimate of cost savings from the proposed revisions to Crop Group 6: Legume Vegetables (Succulent or Dried) Group are around $38.0 million annually. There are no cost savings from the proposed revisions to Crop Group 7: Foliage of Legume Vegetables Group. The estimate of cost savings from the proposed revisions to Crop Group 15: Cereal Grains Group are around $89.9 million annually. The estimate of cost savings from the proposed revisions to Crop Group 16: Forage, Fodder, and Straw of Cereal Grains Group are around $76.7 million annually. The total estimated cost savings from the rule is $204.6 million annually. This cost savings value should be considered an overestimate. The methodology used to estimate cost savings implicitly assumes that all of the new crops being added to the group have a residue field trial that is replaced by the residue field trials of the representative crops. However, some of these crops would never have been the subject of a pesticide tolerance petition that required a residue field trial. Therefore, it does not reflect actual savings, but merely a potential savings if a registrant or Interregional Research Project Number 4 (IR-4) were planning to submit residue field trial data to support a tolerance petition.

The Agency anticipates that revisions to the crop grouping program will result in no appreciable costs or negative impacts to consumers, specialty crop producers, pesticide registrants, the environment, or human health. In particular, specialty crop producers may gain access to pesticides that are registered on the crop group that would not have been available when the crop was not part of the group. Although this rule may make it possible to get a pesticide tolerance on a larger number of crops within a group, it will not necessarily increase the amount of pesticides released into the environment and will expand the choice of pesticides for crop producers, which may result in the use of safer pesticides.

II. Background

A. Tolerance-Setting Requirements and Petitions From the Interregional Research Project Number 4 (IR-4) To Expand the Existing Crop Grouping System

EPA is authorized to establish tolerances under FFDCA section 408 (21 U.S.C. 346a). EPA establishes pesticide tolerances only after determining that they are safe, i.e., that there is a reasonable certainty that no harm will result from aggregate exposure to the pesticide. The U.S. Food and Drug Administration (FDA) and the U.S. Department of Agriculture (USDA) enforce compliance with tolerance limits.

Traditionally, tolerances are established for a specific pesticide and commodity combination. However, under EPA's crop grouping regulations (40 CFR 180.40 and 180.41), a single tolerance may be established that applies to a group of related commodities. For example, Crop Group 15: Cereal Grains Group is proposed to include 60 commodities. Crop group tolerances may be established based on residue data from designated representative commodities within the group. Representative commodities are selected based on EPA's determination that they are likely to bear the maximum level of residue that could occur on any crop within the group. The proposed representative commodities for Crop Group 15-XX are wheat, barley, field corn, sweet corn, rice, and either grain sorghum or proso millet. Once a crop group tolerance is established, the tolerance level applies to all commodities within the group.

This proposed rule is the sixth in a series of planned crop group amendments expected to be completed over the next several years. The previous five crop group amendment rules were finalized on December 7, 2007 (72 FR 69150) (FRL-8343-1); December 8, 2010 (75 FR 76284) (FRL-8853-8); August 22, 2012 (77 FR 50617) (FRL-9354-3); May 3, 2016 (81 FR 26471) (FRL-9944-87); and November 6, 2020 (85 FR 70976) (FRL-10015-19). Specific information and details regarding the history of the crop group regulations, the previous amendments to the regulations, and the process for amending crop groups can be found in Pesticide Tolerance Crop Grouping Program; Proposed Expansion; Proposed Rule, Federal Register (72 FR 28920, May 23, 2007) (FRL-8126-1), and in the docket for these actions under docket identifier EPA-HQ-OPP-2006-0766 at http://regulations.gov. Specific information regarding how the Agency implements crop group amendments can be found in 40 CFR 180.40.

The proposed changes identified in this action have been informed by petitions developed by the International Crop Grouping Consulting Committee (ICGCC) workgroup and submitted to EPA by a nation-wide cooperative project, IR-4 (Refs. 2 and 3). The petitions and the supporting monographs, as well as EPA's analyses of the petitions (Refs. 4-11), are included in the docket for this action. Additional petitions seeking future amendments and changes to the crop grouping regulations (40 CFR 180.40 and 180.41) from the ICGCC workgroup and IR-4 have been submitted and are being evaluated by EPA.

B. Regulatory Burden Reductions and Cost Savings Achieved Through the Expansion of the Existing Crop Grouping System

In 2007, EPA prepared an Economic Analysis (EA) of the potential costs and benefits associated with the first proposed rule issued in this series of updates, entitled “Economic Analysis Proposed Expansion of Crop Grouping Program” (Ref. 12). EPA considers the findings of the 2007 EA to apply to each subsequent crop group rulemaking, including this proposal, due to the similarity in purpose and scope of each of those rulemakings.

As discussed in the 2007 EA, EPA believes that crop grouping rulemakings are burden-reducing and cost-saving regulations. However, the impacts in the 2007 EA were measured primarily on a qualitative basis. For example, the crop grouping rules provide for greater sharing of data by permitting the results from a magnitude of residue field trial study in one crop to be applied to other, similar crops. The primary beneficiaries are minor crop producers and pesticide registrants. Minor crop producers benefit because lower registration costs will encourage more products to be registered on minor crops, providing additional tools (i.e., pesticides) for pest control. Pesticide registrants are expected to benefit as expanded markets for pesticide products will lead to increased sales. Additionally, the IR-4, which is publicly funded, is also expected to benefit from this rule as it will help IR-4 use its resources more efficiently in its efforts to ensure that minor or specialty crop growers have access to legal, registered uses of essential pest management tools such as pesticides and biopesticides. The Agency is also expected to benefit from broader operational efficiency gains, which result from fewer emergency pesticide use requests from specialty crop growers, the ability to conduct risk assessments based on crop groupings, greater ease of establishing tolerances, greater capacity to assess risks of pesticides used on crops grown both in the United States and not grown in the United States, further harmonization of crop classification and nomenclature, harmonized commodity import and export standards, and increased potential for resource sharing between EPA and other pesticide regulatory agencies.

While the 2007 EA provides a qualitative assessment of the benefits of the crop grouping rulemaking activities, EPA has developed a new burden reduction and cost savings assessment specific to the crop group amendments proposed in this rule, titled “Burden Reduction from the Proposed Expansion of Crop Grouping Program” (Ref. 1). Although there are some uncertainties in the evaluation, for this final rule, EPA estimates that the cost savings from these proposed amendments to be approximately $204.6 million annually.

EPA's full analysis on the estimated burden reductions and cost savings is provided in the docket for this action at regulations.gov using Docket ID EPA-HQ-OPP-2006-0766. EPA welcomes feedback on the assumptions made in developing these estimates, as well as any additional information that may help the Agency to refine these estimates.

C. International Efforts and Considerations

1. United States-Mexico-Canada Agreement Partner Involvement in the Proposal

EPA's Office of Pesticide Programs' Chemistry Science Advisory Council (ChemSAC), an internal Agency peer review committee, provided detailed analyses for each proposed crop group to IR-4, Canada's Pest Management Regulatory Agency (PMRA), and the government of Mexico for their review and comment, and invited these parties to participate in the ChemSAC meeting to finalize the EPA's recommendations on responses to each IR-4 petition. The results of the ChemSAC meetings finalizing the recommendations for proposal in this action are provided in the docket (Ref. 4-11).

PMRA has indicated that it will, in parallel with the United States effort and under the authority of Canada's Pest Control Products (PCP) Act (2002), establish equivalent crop groups. Additionally, once the new crop groups become effective in the United States, Mexico will have them as a reference for the establishment of maximum residue limits in Mexico.

2. Relationship of Proposal to Codex Activities

When Codex establishes Maximum Residue Limits (MRL) for a pesticide chemical residue and EPA is not establishing tolerances at that same level, section 408 of the FFDCA calls for EPA to provide an explanation for its reasons for departing from that Codex level. In implementing this provision, EPA works to harmonize tolerance determinations with a Codex MRL whenever possible. This activity facilitates free trade and international movement of goods produced in the United States. When a Codex crop group is established, EPA will work to harmonize with Codex to the extent feasible. Both Canada and Codex have adopted their own crop group schemes that are synchronized with and complement the efforts and goals of the crop grouping rulemaking efforts.

D. Scheme for Organization of Revised and Pre-Existing Crop Groups

The generic crop group regulations include an explicit scheme for how revised crop groups will be organized in the regulations. In brief, the regulations at 40 CFR 180.40(j) specify that when a crop group is amended in a manner that expands or contracts its coverage of commodities, EPA will retain the pre-existing crop group in 40 CFR 180.41 and insert the new, related crop group immediately after the pre-existing crop group in the CFR. Although EPA will initially retain pre-existing crop groups that have been superseded by new crop groups, 40 CFR 180.41(j) states that EPA will not establish new tolerances under the pre-existing groups and that EPA will convert tolerances for any pre-existing crop groups to tolerances with the coverage of the new crop group. Conversions to revised crop groups are implemented through the registration review process and in the course of establishing new tolerances for a pesticide.

III. Specific Proposed Revisions

This unit explains the proposed amendments to the crop group regulations.

A. Proposed Amendments to Crop Group 6: Legume Vegetables (Succulent or Dried) Group, and Associated Commodity Definitions

EPA is proposing to amend “Crop Group 6: Legume Vegetables (Succulent or Dried)” to update the commodity listings in the group. EPA also proposes to name the new crop group “Crop Group 6-XX Legume Vegetable Group.” The following paragraphs describes this crop grouping in more detail.

1. Commodities

Based on similarities of growth habits and edible plant parts that are exposed to pesticides, geographical distribution, comparison of established tolerances, and for international harmonization purposes, EPA is proposing to include 121 commodities in Legume Vegetable Crop Group 6-XX. The commodities are distinguished based on the specific plant part that is edible, such as edible podded beans and peas, succulent shelled beans and peas, and dried seeds of beans and peas, which is consistent with how legume vegetables are classified. The commodities proposed for inclusion in Crop Group 6-XX are as follows: African yam bean, dry seed, Sphenostylis stenocarpa (Hochst. ex A. Rich.) Harms; American potato bean, dry seed, Apios americana Medik.; Bean (Lupinus spp.), succulent shelled (including, but not limited to Andean lupin, blue lupin, grain lupin, sweet lupin, white lupin, white sweet lupin, and yellow lupin); Bean (Lupinus spp.), dry seed (including, but not limited to Andean lupin, blue lupin, grain lupin, sweet lupin, white lupin, white sweet lupin, and yellow lupin); Bean (Phaseolus spp.), edible podded (including, but not limited to French bean, garden bean, green bean, kidney bean, navy bean, scarlet runner bean, snap bean, and wax bean); Bean (Phaseolus spp.), succulent shelled (including, but not limited to, lima bean, scarlet runner bean, and wax bean); Bean (Phaseolus spp.), dry seed (including, but not limited to black bean, cranberry bean, dry bean, field bean, French bean, garden bean, great northern bean, green bean, kidney bean, lima bean, navy bean, pink bean, pinto bean, red bean, scarlet runner bean, tepary bean, and yellow bean); Bean (Vigna spp.), edible podded (including, but not limited to asparagus bean, catjang bean, Chinese longbean, cowpea, moth bean, mung bean, rice bean, urd bean, and yardlong bean); Bean (Vigna spp.), succulent shelled (including, but not limited to blackeyed pea, catjang bean, cowpea, crowder pea, moth bean and southern pea); Bean (Vigna spp.), dry seed (including, but not limited to adzuki bean, asparagus bean, blackeyed pea, catjang bean, Chinese longbean, cowpea, crowder pea, moth bean, mung bean, rice bean, southern pea, urd bean, and yardlong bean); Broad bean (fava bean), succulent shelled, Vicia faba L. subsp. faba var. faba; Broad bean (fava bean), dry seed, Vicia faba L. subsp. faba var. faba; Chickpea (garbanzo), edible podded, Cicer arietinum L.; Chickpea (garbanzo), succulent shelled, Cicer arietinum L.; Chickpea (garbanzo), dry seed, Cicer arietinum L.; Goa bean (asparagus pea and winged bean), edible podded, Psophocarpus tetragonolobus (L.) DC.; Goa bean (asparagus pea and winged bean), succulent shelled, Psophocarpus tetragonolobus (L.) DC.; Goa bean, dry seed (asparagus pea and winged bean), Psophocarpus tetragonolobus (L.) DC.; Grass pea, edible podded, Lathyrus sativus L.; Grass pea, dry seed, Lathyrus sativus L.; Guar bean, edible podded, Cyamopsis tetragonoloba (L.) Taub.; Guar bean, dry seed, Cyamopsis tetragonoloba (L.) Taub.; Horse gram, dry seed, Macrotyloma uniflorum (Lam.) Verdc.; Jackbean, edible podded, Canavalia ensiformis (L.) DC.; Jackbean, succulent shelled, Canavalia ensiformis (L.) DC.; Jackbean, dry seed, Canavalia ensiformis (L.) DC.; Lablab bean (hyacinth bean), edible podded, Lablab purpureus (L.) Sweet subsp. purpureus; Lablab bean (hyacinth bean), succulent shelled, Lablab purpureus (L.) Sweet subsp. purpureus; Lablab bean (hyacinth bean), dry seed, Lablab purpureus (L.) Sweet subsp. purpureus; Lentil, edible podded, Lens culinaris Medik. subsp. culinaris; Lentil, succulent shelled, Lens culinaris Medik. subsp. culinaris; Lentil, dry seed, Lens culinaris Medik. subsp. culinaris; Morama bean, dry seed, Tylosema esculentum (Burch.) A. Schreib.; Pea (Pisum spp.), edible podded (including, but not limited to dwarf pea, green pea, snap pea, snow pea, and sugar snap pea); Pea (Pisum spp.), succulent shelled (including, but not limited to English pea, garden pea, and green pea); Pea (Pisum spp.), dry seed (including, but not limited to dry pea, field pea, garden pea, and green pea); Pigeon pea, edible podded, Cajanus cajan (L.) Huth; Pigeon pea, succulent shelled, Cajanus cajan (L.) Huth; Pigeon pea, dry seed, Cajanus cajan (L.) Huth; Soybean, seed, Glycine max (L.) Merr.; Sword bean, edible podded, Canavalia gladiata (Jacq.) DC.; Sword bean, dry seed, Canavalia gladiata (Jacq.) DC.; Vegetable soybean, edible podded (edamame), Glycine max (L.) Merr.; Vegetable soybean, succulent shelled (edamame), Glycine max (L.) Merr.; Vegetable soybean, dry seed (edamame), Glycine max (L.) Merr.; Velvetbean, edible podded, Mucuna pruriens (L.) DC.; Velvetbean, succulent shelled, Mucuna pruriens (L.) DC.; Velvetbean, dry seed, Mucuna pruriens (L.) DC.; Winged pea, edible podded, Lotus tetragonolobus L.; Winged pea, dry seed, Lotus tetragonolobus L. Also included are cultivars, varieties, and/or hybrids of these commodities. In the parentheticals of this paragraph EPA has provided examples of succulent shelled, dry seed, and edible podded beans and peas that are included within the species listed and covered by this crop group. EPA requests comment on whether there are other examples that would be helpful to stakeholders.

This list of 121 commodities includes several new commodities that EPA is proposing to add to Crop Group 6-XX. These include the African yam bean, Sphenostylis stenocarpa (Hochst. ex A. Rich.); American potato bean, Apios americana Medik; Goa bean (asparagus pea and winged bean) Psophocarpus tetragonolobus (L.) DC.; Grass pea, Lathyrus sativus L.; Horse gram, Macrotyloma uniflorum (Lam.) Verdc.; Morama bean, Tylosema esculentum (Burch.) A. Schreib.; Velvetbean, Mucuna pruriens (L.) DC.; and Winged pea, Lotus tetragonolobus L.

Updating and expanding the commodities included in Crop Group 6-XX will have many benefits. Many minor legume orphan crops have become more popular in some countries and areas today than they were over twenty years ago. Increased globalization of trade has resulted in additional commodities to be enjoyed that are grown worldwide. Being excluded from the crop groups means that tolerances requested for these commodities would have to be established individually and based on separate residue studies. Also, this crop group regulation will facilitate the establishment of pesticide tolerances for residues of numerous pesticides that are needed to control a wide diversity of bean and pea pests, as well as to facilitate integrated pest management (IPM). Those IPM programs incorporate reduced risk pesticides, organic and biopesticides, as well as cultural practices to reduce the development of pesticide resistance. Some of these “minor” crops have great potential to be grown on a larger scale in some areas in the future due to their unique nutritional and medicinal values. Because the demand for both pea and bean crops keeps increasing in the United States, these crops may provide local market growers new revenue opportunities for legume vegetable crops with high returns per acre. Finally, this proposal more closely aligns the commodities in the U.S. legume crop group and subgroups with the commodities in the Codex legume crop group and subgroups.

In addition to these commodity additions, EPA is proposing to remove “Succulent or Dried” from the old group name “Legume Vegetables (Succulent or Dried)” since this qualification is not needed. EPA does not believe these terms belong in the title because they are unclear (for example “succulent” would include the edible podded and succulent shelled). For years, this phrase has not been used to describe the crop group when establishing crop group 6 tolerances.

2. Representative Commodities

EPA is proposing the following seven representative commodities for proposed Crop Group 6-XX: Bean (Phaseolus spp. or Vigna spp.; one edible podded cultivar, one succulent shelled cultivar, and one dried seed); Pea (Pisum spp.; one edible podded cultivar, one succulent shelled cultivar, and one dried seed); and Soybean, seed.

Representative commodities are those crops that are most likely to contain the highest residues, are major in terms of production and/or consumption, and are similar in morphology, growth habit, pest problems and edible portion to the related commodities within a group or subgroup. Based on these criteria, EPA is proposing to add Vigna spp. as an alternate representative commodity to bean, Phaseolus spp. These representative commodities represent over 98% of the total legume vegetable harvested acres reported in the USDA Census of Agriculture (Ref. 13) and are the highest consumed commodities on a per capita basis in the group.

In addition to adding Vigna spp. as an option, EPA is proposing a revision of the representative commodity expression for Crop Group 6 from “Bean (Phaseolus spp.; one succulent cultivar and one dried cultivar); pea (Pisum spp.; one succulent cultivar and one dried cultivar); and soybean” to read:

Bean (Phaseolus spp. or Vigna spp.; one edible podded cultivar, one succulent shelled cultivar, and one dried seed); Pea (Pisum spp; one edible podded cultivar, one succulent shelled cultivar, and one dried seed); and Soybean, seed.

This revision does not imply an increase in data requirements. The term “succulent cultivar” in the current representative commodity expression for Crop Group 6 has always been understood to mean both “edible podded cultivar” and “succulent shelled cultivar.” The current Crop Field Trial Guideline (Guideline 860.1500) provides some guidance on how these terms have been used together. In Table 2 of the Guideline, the entry for legume vegetables (succulent or dried) requires 12 field trials for the representative commodities of succulent bean and 9 field trials for the representative commodity succulent pea, although the footnote for each of those requirements clarifies that the actual number of field trials is divided between edible podded beans (or peas) and succulent shelled beans (or peas). (Refs. 14 and 15). While EPA's proposal for the updated Crop Group 6 explicitly identifies edible podded representative commodities as separate from succulent shelled representative commodities, the number of field trials is intended to remain the same.

3. Subgroups

Currently, Legume Vegetables (Succulent or Dried) Crop Group 6 includes three subgroups:

• Subgroup 6A—Edible podded legume vegetables subgroup,

• Subgroup 6B—Succulent shelled pea and bean subgroup, and

• Subgroup 6C—Dried shelled pea and bean (except soybean) subgroup.

Nine legume subgroups were originally proposed at the 2002 IR-4/USDA International Crop Grouping Symposium. (Ref. 16). Those nine subgroups included the original three subgroups, plus an additional six subgroups that divided the original three subgroups into separate bean and pea subgroups. This proposal, however, only includes six subgroups (the original three subgroups divided into their respective bean and pea subgroups). EPA believes these subgroups should provide a better understanding of which legumes are included in the appropriate subgroup and provide greater flexibility and efficiency in obtaining subgroup tolerances. Moreover, EPA believes the proposed reorganization of the subgroups would put EPA's regulations in better alignment with the legume subgroups established by Codex.

Legume vegetables are vegetables with edible parts that are harvested above ground. Some legumes have edible parts that are enclosed in pods, which are removed before marketing or consumption; these are called succulent shelled or dried shelled legumes, depending on whether they have edible succulent immature seeds which are removed from the pod or mature dried seeds which are removed from the pod. In both cases, the pod is discarded. For other legumes, the edible parts include the pod, which is generally consumed; these are classified as edible podded legumes. The types of beans and peas and how they are consumed make for logical crop subgroups.

Therefore, EPA proposes the following six subgroups:

• Crop Subgroup 6-XXA, Edible podded bean subgroup;

• Crop Subgroup 6-XXB, Edible podded pea subgroup;

• Crop Subgroup 6-XXC, Succulent shelled bean subgroup,

• Crop Subgroup 6-XXD, Succulent shelled pea subgroup;

• Crop Subgroup 6-XXE, Dried shelled bean, except soybean, subgroup; and

• Crop Subgroup 6-XXF, Dried shelled pea subgroup.

EPA notes that under the proposal “soybean, seed” stands by itself as a member of Crop Group 6 but is not proposed to be in one of the subgroups. Soybean seed is a major crop with many uses and is an important dietary item. EPA does not expect the residues to be the same for soybean seed as they would be for the subgroups. (Refs. 9 and 10). EPA notes that vegetable soybean (edamame) is in subgroup 6-XXA (edible podded beans) and 6-XXC (succulent shelled beans).

The edible podded bean subgroup 6-XXA and edible podded pea subgroup 6-XXB are based on the entire unripe pod with its small immature (green) seeds. The succulent shelled bean subgroup 6-XXC and succulent shelled pea subgroup 6-XXD have edible succulent immature seeds, which are removed from the pod, and the pod is discarded. The dried shelled bean subgroup 6-XXE and the dried shelled pea subgroup 6-XXF have mature dried seeds, which are removed from the dried pods. The respective representative commodities and commodity listings are provided in (i) through (vi).

i. Crop Subgroup 6-XXA: Edible podded bean subgroup. (Representative commodity—Any cultivar of edible podded bean, Phaseolus spp. or Vigna spp.).

EPA is proposing to include the following commodities in new subgroup 6-XXA: Bean (Phaseolus spp.; including, but not limited to French bean, garden bean, green bean, kidney bean, navy bean, scarlet runner bean, snap bean, and wax bean); Bean (Vigna spp.; including, but not limited to asparagus bean, catjang bean, Chinese longbean, cowpea, moth bean, mung bean, rice bean, urd bean, and yardlong bean); goa bean; guar bean; jackbean; lablab bean; vegetable soybean (edamame); sword bean; winged pea; and velvetbean; as well as cultivars, varieties, and/or hybrids of these commodities.

ii. Crop Subgroup 6-XXB: Edible podded pea subgroup. (Representative commodity—Any cultivar of edible podded pea, Pisum spp).

EPA is proposing the following commodities in new subgroup 6-XXB: Pea (Pisum spp.; including, but not limited to dwarf pea, green pea, snap pea, snow pea, and sugar snap pea); grass pea; lentil; pigeon pea; and chickpea; as well as cultivars, varieties, and/or hybrids of these commodities.

iii. Crop Subgroup 6-XXC: Succulent shelled bean subgroup. (Representative commodity—Any succulent shelled cultivar of bean, Phaseolus spp., or Vigna spp.).

EPA is proposing the following commodities in new subgroup 6-XXC: Bean (Phaseolus spp.; including, but not limited to lima bean, scarlet runner bean, and wax bean); Bean (Vigna spp.; including, but not limited to blackeyed pea, catjang bean, cowpea, crowder pea, moth bean, and southern pea); Bean (Lupinus spp.; including, but not limited to Andean lupin, blue lupin, grain lupin, sweet lupin, white lupin, white sweet lupin, and yellow lupin); broad bean; jackbean; goa bean; lablab bean; vegetable soybean (edamame); and velvetbean; as well as cultivars, varieties, and/or hybrids of these commodities.

iv. Crop Subgroup 6-XXD: Succulent shelled pea subgroup. (Representative commodity—Any succulent shelled cultivar of garden pea, Pisum spp.).

EPA is proposing the following commodities in new subgroup 6-XXD: Chickpea; lentil; Pea (Pisum spp.; including, but not limited to English pea, garden pea, and green pea); and pigeon pea; as well as cultivars, varieties, and/or hybrids of these commodities.

v. Crop Subgroup 6-XXE: Dried shelled bean, except soybean, subgroup. (Representative commodity—Any one dried seed of bean, Phaseolus spp., or Vigna spp.).

EPA is proposing the following commodities in new subgroup 6-XXE: African yam bean; American potato bean; Bean (Lupinus spp.; including, but not limited to Andean lupin, blue lupin, grain lupin, sweet lupin, white lupin, white sweet lupin, and yellow lupin); Bean (Phaseolus spp.; including, but not limited to black bean, cranberry bean, dry bean, field bean, French bean, garden bean, great northern bean, green bean, kidney bean, lima bean, navy bean, pink bean, pinto bean, red bean, scarlet runner bean, tepary bean, and yellow bean); Bean (Vigna spp.; including, but not limited to adzuki bean, asparagus bean, blackeyed pea, catjang bean, Chinese longbean, cowpea, crowder pea, moth bean, mung bean, rice bean, southern pea, urd bean, and yardlong bean); broad bean; guar bean; goa bean; horse gram; jackbean; lablab bean; morama bean; sword bean; winged pea; velvetbean, seed; and vegetable soybean (edamame); as well as cultivars, varieties, and/or hybrids of these commodities.

vi. Crop Subgroup 6-XXF: Dried shelled pea subgroup. (Representative commodity—Any one dried seed of pea, Pisum spp.).

EPA is proposing the following commodities in new subgroup 6-XXF: Pea (Pisum spp.; including, but not limited to, dry pea, field pea, green pea, and garden pea); chickpea; grass pea; lentil; and pigeon pea; as well as cultivars, varieties, and/or hybrids of these commodities.

4. Commodity Definitions

To ensure commodities are clearly defined and specific to which part of the plant the commodity covers, EPA is proposing to modify and add several definitions to 40 CFR 180.1(g) that are relevant to Crop Groups 6 and 7.

EPA proposes to revise the commodity definition entries for “Bean,” “Bean, succulent,” “Pea,” and “Pea, succulent.” For “Bean” and “Pea,” the revisions to the commodity definitions reflect the updates to the commodity listings in the proposed Crop Groups 6-XX and 7-XX since the commodities are more clearly identified. The current definition-based tolerance listings for “Bean, succulent” and “Pea, succulent” are ambiguous in terms of how they should be translated into subgroup tolerance listings. EPA proposes to revise “Bean, succulent” and “Pea, succulent” to incorporate both edible podded and succulent shelled forms. EPA also proposes to add new definitions for “Bean, succulent shelled,” “Bean, edible podded,” “Pea, succulent shelled,” and “Pea, edible podded” so these terms are defined individually.

EPA is proposing to remove the entries for “Bean, dry” and “Pea, dry,” because the commodity definitions are not as useful as they once were since the beans and peas are more clearly listed in the commodity lists for the amended crop groups. These commodity definitions are therefore proposed to be replaced with new definitions for “Bean, dry, seed” and “Pea, dry, seed,” which are more accurate and reflect the proposed changes to the crop groupings previously discussed. The “Bean, dry, seed” commodities are in crop subgroup 6-XXE, Dried shelled bean subgroup, except soybean, subgroup and the “Pea, dry, seed” commodities are in crop subgroup 6-XXF, Dried shelled pea subgroup.

B. Proposed Amendments to Crop Group 7: Foliage of Legume Vegetables Group, and Associated Commodity Definitions

EPA is proposing to amend “Crop Group 7: Foliage of Legume Vegetables Group” by changing the name to “Crop Group 7-XX: Forage and Hay of Legume Vegetables Group.” The name change of this crop group is proposed to reflect current tolerance nomenclature and uses of the crop group commodities. The commodities in this group are livestock feed commodities, and only forage and hay residue field trials are required. Foliage is a more general term, while forage and hay are specific for the raw agricultural commodities included in this crop group.

In addition to the title change, EPA is proposing to update the commodity listings in the group. The following paragraphs describes this crop grouping in more detail.

1. Commodities

The description of the current commodities is as follows: “Plant parts of any legume vegetable included in the legume vegetables that will be used as animal feed.” EPA proposes to change this description to the following: “Plant parts of any legume vegetable listed in crop group 6-XX that will be used as animal feed.”

EPA notes that tolerances can be requested independently on CG 6 and CG 7. Even though CG 7 includes “plant parts of any legume vegetable . . . that will be used as animal feed,” in practice the only commodities that meet that description are cowpeas and field peas that are specifically used for forage crops. This is why cowpea is being added to the representative commodities. Different varieties of cowpeas and field peas are grown to produce edible podded, succulent shelled or dry seed beans/peas and for forage and hay of legume vegetables. Additionally, they are grown in different parts of the country.

2. Representative Commodities

The current crop group has the following description of the representative commodities: “any cultivar of bean (Phaseolus spp.) and field pea (Pisum spp.), and soybean (Glycine max).” EPA proposes to change the representative commodities to “Any cultivar of bean (Phaseolus spp. or cowpea (Vigna unguiculata (L.) Walp)); field pea (Pisum sativum L. subsp. sativum var. arvense (L.) Poir.); and soybean (Glycine max (L.) Merr.).”

The only bean commodity currently used as a livestock feedstuff is cowpea (Vigna unguiculata (L.) Walp.). At this time, there is no Phaseolus spp. that is a significant livestock feed. However, since many beans (Phaseolus spp.) are being researched as forage crops, in the future there may be a Phaseolus spp. crop that will also have only livestock uses. Phaseolus spp. residue data that has been submitted with current petitions can substitute for cowpea residue data. Specific varieties of field pea such as “Austrian winter peas” have been developed for use as a forage crop only. While residue data for vines and hay are required for field peas, vines of field peas are typically referred to as forage for the current Crop Subgroup 7A. Residue data for forage and hay are required for soybeans. Therefore, to reflect current practice, EPA is proposing to change the representative commodities to “Any cultivar of bean (Phaseolus spp. or cowpea (Vigna unguiculata (L.) Walp)); field pea (Pisum sativum L. subsp. sativum var. arvense (L.) Poir.); and soybean (Glycine max (L.) Merr.).”

3. Crop Subgroups

EPA is proposing to revise the name of “Crop Subgroup 7A. Foliage of legume vegetables (except soybeans) subgroup” to be “Crop Subgroup 7-XXA. Forage and hay of legume vegetables (except soybeans) subgroup,” EPA is also proposing several revisions to the crop subgroup to parallel the changes being made to the commodities and representative commodities of crop Group 7-XX, as follows:

i. Commodities.

The following commodities are proposed for Crop Subgroup 7-XXA: Plant parts of any legume vegetable listed in crop group 6-XX (except soybeans) that will be used as animal feed.

ii. Representative commodities.

EPA is proposing the following representative commodities for proposed Crop Subgroup 7-XXA: Any cultivar of bean (Phaseolus spp. or cowpea (Vigna unguiculata (L.) Walp)); field pea (Pisum sativum L. subsp. sativum var. arvense (L.) Poir.).

C. Proposed Amendments to Crop Group 15: Cereal Grains Group

EPA is proposing to change the name of Crop Group 15: Cereal Grains Group to Crop Group 15-XX: Cereal Grain Group. Additionally, EPA is proposing changes to the commodities and representative commodities and EPA is proposing to add subgroups.

1. Commodities

EPA is proposing to add additional commodities to Crop Group 15-XX. These additions are based on similarities of growth habits and edible plant parts (grain, seeds, or achenes) that are exposed similarly to pesticides, wide geographical distribution, comparison of established tolerances, and for international harmonization purposes. Adding these commodities into a group will benefit growers by enabling tools for crop protection. Many minor cereal grain orphan crops have become more popular in the United States and other countries and regions today than when Crop Group 15 was first established. Some of these “minor” crops have great potential to be grown on a larger scale in some areas in the future due to their unique nutritional and medicinal values. Being excluded from the crop groups means that tolerances requested for these commodities would have to be established based on separate residue studies. Also, this proposal would facilitate the establishment of pesticide tolerances on numerous pesticides that are needed to control a wide diversity of cereal grain pests, and will support IPM programs to incorporate reduced risk pesticides and biopesticides, and to reduce the development of pesticide resistance. Because the demand for cereal grain crops keeps increasing in the United States, as well as older varieties such as spelt wheat and emmer wheat (popularly called farro) becoming mainstream, these crops may provide local market growers new revenue opportunities with high returns per acre. Also, this proposal is more closely aligned with the Codex cereal grain crop group and subgroups.

EPA is proposing to include the following 60 cereal grains in Crop Group 15-XX: Amaranth, grain, Amaranthus spp.; amaranth, purple, Amaranthus cruentus L.; baby corn, Zea mays L. subsp. mays; barley, Hordeum vulgare L. subsp. vulgare; buckwheat, Fagopyrum esculentum Moench; buckwheat, tartary, Fagopyrum tataricum (L.) Gaertn; canarygrass, annual, Phalaris canariensis L.; cañihua, Chenopodium pallidicaule Aellen; chia, Salvia hispanica L.; corn, field, Zea mays L. subsp. mays; corn, sweet, Zea mays L. subsp. mays; cram cram, Cenchrus biflorus Roxb; fonio, black, Digitaria iburua Stapf; fonio, white, Digitaria exilis (Kippist) Stapf; Grain sorghum, Sorghum bicolor (L.)

Moench; huauzontle, grain, Chenopodium berlandieri Moq. subsp. nuttalliae (Saff.) H. D. Wilson & Heiser and Chenopodium berlandieri Moq.; Inca wheat, Amaranthus caudatus L.; Job's tears, Coix lacryma-jobi L., Coix lacryma-jobi L. var. ma-yun (Rom. Caill.) Stapf; millet, barnyard, Echinochloa frumentacea Link; millet, finger, Eleusine coracana (L.) Gaertn. subsp. coracana; millet, foxtail, Setaria italica (L.) P. Beauv. subsp. italic; millet, little, Panicum sumatrense Roth; millet, pearl, Pennisetum glaucum (L.) R. B. r; Millet, proso, Panicum miliaceum L. subsp. miliaceum; oat, Avena spp.; oat, Abyssinian, Avena abyssinica Hochst. ex A. Rich.; Oat, common, Avena sativa L.; oat, naked, Avena nuda L.; oat, sand, Avena strigosa Schreb.; Popcorn, Zea mays L. subsp. mays; princess feather, Amaranthus hypochondriacus L.; psyllium, Plantago arenaria Waldst. & Kit.; psyllium, blond, Plantago ovata Forssk.; quinoa, Chenopodium quinoa Willd. subsp. quinoa; rice, Oryza sativa L.; rice, African, Oryza glaberrima Steud.; rye, Secale cereale L. subsp. cereale; teff, Eragrostis tef (Zuccagni) Trotter; Teosinte, Zea mays L. subsp. mexicana (Schrad.) H. H. Iltis.; triticale, X Triticosecale spp.; wheat, Triticum spp.; wheat, club, Triticum aestivum L. subsp. compactum (Host) Mackey; wheat, common, Triticum aestivum L. subsp. aestivum; wheat, durum, Triticum turgidum L. subsp. durum (Desf.) van Slageren; wheat, einkorn, Triticum monococcum L. subsp. monococcum; wheat, emmer, Triticum turgidum L. subsp. dicoccon (Schrank) Thell.; wheat, macha, Triticum aestivum L. subsp. macha (Dekapr. & Menabde) Mackey; wheat, oriental, Triticum turgidum L. subsp. turanicum (Jakubz.) Á. Löve & D. Löve; wheat, Persian, Triticum turgidum L. subsp. carthlicum (Nevski) Á. Löve & D. Löve.; wheat, Polish, Triticum turgidum L. subsp. polonicum (L.) Thell.; wheat, poulard, Triticum turgidum L. subsp. turgidum; wheat, shot, Triticum aestivum L. subsp. sphaerococcum (Percival) Mackey; wheat, spelt, Triticum aestivum L. subsp. spelta (L.) Thell.; wheat, timopheevi, Triticum timopheevii (Zhuk.) Zhuk. subsp. timopheevii; wheat, vavilovi, Triticum vavilovii Jakubz.; wheat, wild einkorn, Triticum monococcum L. subsp. aegilopoides (Link) Thell; wheat, wild emmer, Triticum turgidum L. subsp. dicoccoides (Körn. ex Asch. & Graebn.) Thell; wheatgrass, intermediate, Iseilema prostratum (L.) Andersson; wild rice, Zizania palustris L.; wild rice, eastern, Zizania aquatica L., and cultivars, varieties, and hybrids of these commodities.

Twenty-one of these commodities simply reflect specific terms for commodities already included in the current crop group (i.e., baby corn and the different varieties of oat and wheat). Twenty-four of these commodities would be new for the proposed Crop Group 15-XX: Amaranth, purple amaranth, tartary buckwheat, annual canarygrass, cañihua, chia, cram cram, black fonio, white fonio, huauzontle, Inca wheat, Job's tears, barnyard millet, finger millet, foxtail millet, little millet, princess feather, psyllium, blond psyllium, quinoa, African rice, teff, intermediate wheatgrass, and eastern wild rice.

2. Subgroups

EPA is proposing to create 6 subgroups: Crop Subgroup 15-XXA, Wheat subgroup; Crop Subgroup 15-XXB, Barley subgroup; Crop Subgroup 15-XXC, Field corn subgroup; Crop Subgroup 15-XXD, Sweet corn subgroup; Crop Subgroup 15-XXE, Grain sorghum and millet subgroup; and Crop Subgroup 15-XXF, Rice subgroup. The following are a description of the proposed subgroups:

i. Crop Subgroup 15-XXA: Wheat subgroup. (Representative commodity—Wheat).

EPA is proposing the following commodities for inclusion in subgroup 15-XXA: Amaranth, grain; Amaranth, purple; Cañihua; Chia; Cram cram; Huauzontle, grain; Inca wheat; Princess feather; Psyllium; Psyllium, blond; Quinoa; Rye; Triticale; Wheat; Wheat, club; Wheat, common; Wheat, durum; Wheat, einkorn; Wheat, emmer; Wheat, macha; Wheat, oriental; Wheat, Persian; Wheat, Polish; Wheat, poulard; Wheat, shot; Wheat, spelt; Wheat, timopheevi; Wheat, vavilovi; Wheat, wild einkorn; Wheat, wild emmer; and Wheatgrass, intermediate; as well as cultivars, varieties, and hybrids of these commodities.

ii. Crop Subgroup 15XXB: Barley Subgroup. (Representative commodity—Barley).

EPA is proposing the following commodities for inclusion in subgroup 15-XXB: Barley; Buckwheat; Buckwheat, tartary; Canarygrass, annual; Oat; Oat, Abyssinian; Oat, common; Oat, naked; and Oat, sand; as well as cultivars, varieties, and hybrids of these commodities.

iii. Crop Subgroup 15-XXC: Field corn subgroup. (Representative commodity—Field corn).

EPA is proposing the following commodities for inclusion in subgroup 15-XXC: Corn, field; Popcorn; and Teosinte; as well as cultivars, varieties, and hybrids of these commodities.

iv. Crop Subgroup 15-XXD: Sweet corn subgroup. (Representative commodity -Sweet corn).

EPA is proposing the following commodities for inclusion in subgroup 15-XXD: Baby corn; and Corn, sweet; as well as cultivars, varieties, and hybrids of these commodities.

v. Crop Subgroup 15-XXE: Grain sorghum and millet subgroup. (Representative commodities—Grain sorghum or Proso millet).

EPA is proposing the following commodities for inclusion in subgroup 15-XXE: Fonio, black; Fonio, white; Grain sorghum; Job's tears; Millet, barnyard; Millet, finger; Millet, foxtail; Millet, little; Millet, pearl; Millet, Proso; and Teff; as well as cultivars, varieties, and hybrids of these commodities.

vi. Crop Subgroup 15-XXF: Rice subgroup. (Representative commodity—Rice).

EPA is proposing the following commodities for inclusion in subgroup 15-XXF: Rice; Rice, African; Wild rice; and Wild rice, eastern; as well as cultivars, varieties, and hybrids of these commodities.

3. Representative Commodities

EPA is proposing to include the current representative commodities for Crop Group 15, add barley as a representative crop to accommodate the new Barley Subgroup (15-XXB), and add proso millet as an alternative representative commodity for better harmonization of the Grain Sorghum and Millet Subgroup (15-XXD). In practice, the residue field trial requirement could be fulfilled by providing the required number of trials on just grain sorghum, just proso millet, or a combination of the two commodities. EPA notes that barley is a representative crop in Canada and barley is also the representative commodity for the recently adopted Codex subgroup 020B, Barley, similar grains and pseudocereals with husks. EPA does not intend the addition of barley as a representative commodity to increase the number of required field trials for the group. EPA plans to split the current requirement for wheat trials into wheat and barley. Wheat and barley are mostly grown in similar field trial regions. Studies unique only to wheat or barley would include only the respective crop in the appropriate regions. The total number of trials for wheat and barley would be the same as when wheat was the only representative crop. (Refs. 3-5, 7, and 13-15). Specifically, this would replace the current requirement of 15 field trials for wheat with 6 of barley and 9 of wheat, resulting in no net increase in field trials (Ref. 5). This change applies only to the total number of field trials required for Crop Group 15; this change has no impact on the number of field trials required to establish a tolerance for wheat alone, the wheat subgroup, barley alone, or the barley subgroup. With respect to the newly proposed option of proso millet as a representative commodity in lieu of or in combination with grain sorghum, EPA notes that OPPTS 860.1500—Crop Field Trials (Ref. 14) currently provides for 12 (9 if part of the group) field trials for grain sorghum and 5 for proso millet. EPA plans to implement the revised Crop Group 15-XX with 9 field trials of grain sorghum or 9 of proso millet, or a mixture of grain sorghum and proso millet totaling 9. This would not affect the number of field trials to establish a tolerance for proso millet alone. EPA intends to update OPPTS 860.1500—Crop Field Trials (Ref. 14) to reflect these changes when EPA wholistically updates the guideline at, or around, the conclusion of this series of rulemakings revising the pesticide tolerance crop grouping regulations.

Proso millet is a member of the current Cereal Grain Crop Group 15. EPA is now proposing it to be an alternate representative commodity for the Grain sorghum and millet crop subgroup 15-XXE and for crop group 15. Codex also adopted Subgroup 020D Grain Sorghum and Millet subgroup with grain sorghum as the representative commodity. Canada does not grow grain sorghum but does grow proso millet and there is sufficient production of millet in Canada with field trial requirements already established. The United States grows both commodities. By having grain sorghum or proso millet as the representative commodities for crop subgroup 15-XXE, trade irritants with Canada would be avoided. Therefore, for the proposed revised U.S. subgroup 15-XXE the representative commodities are expressed as grain sorghum or proso millet. OPPTS 860.1500—Crop Field Trials (Ref.14) currently specifies 5 field trials for proso millet and 12 (9 if part of a crop group) field trials for grain sorghum. Under these revisions, the subgroup could be obtained with 12 field trails (12 for proso millet or 12 for grain sorghum, or a combination of the two totaling 12). EPA intends to update OPPTS 860.1500- Crop Field Trials (Ref. 14) to reflect this change when EPA wholistically updates the guideline at, or around, the conclusion of this series of rulemakings revising the pesticide tolerance crop grouping regulations.

D. Proposed Amendments to Crop Group 16: Forage, Fodder, and Straw of Cereal Grains Group, and Associated Commodity Definitions

EPA is proposing to amend Crop Group 16: Forage, Fodder and Straw of Cereal Grains Group to update the commodity listings in the group. EPA also proposes to name the new crop group “Crop Group 16-XX: Forage, Hay, Stover, and Straw of Cereal Grain Group.” EPA is proposing this change because corn fodder is an antiquated term referring to the entire corn plant (either fresh or dried) and including the ears. Modern harvesting methods since 1950s remove the ear at harvest and leave only the whole stalk, which is referred to as stover. Thus, EPA is proposing to replace fodder with stover to update the commodity terminology. Due to the change in harvesting methods, fodder no longer has any meaning for most cereal grains, including all the representative commodities in the proposed group 15-XX.

Consistent with the changes proposed for Crop Group 15-XX, EPA is proposing to add the same additional commodities to Crop Group 16-XX. These additions are based on similarities of growth habits and edible plant parts that are exposed similarly to pesticides, wide geographical distribution, comparison of established tolerances, and for international harmonization purposes.

EPA is proposing to include the following in Forage, Hay, Stover, and Straw of Cereal Grain Crop Group 16-XX: The forage, hay, stover and straw of the commodities included in proposed Cereal Grain Crop Group 15-XX.

EPA is not proposing to create subgroups for Crop Group 16-XX and is not proposing changes to the representative commodities. The representative commodities would continue to be corn, wheat, and any other cereal grain crop.

IV. References

The following is a listing of the documents that are specifically referenced in this document. The docket includes these documents and other information considered by EPA, including documents that are referenced within the documents that are included in the docket, even if the referenced document is not physically located in the docket. For assistance in locating these other documents, please consult the person listed under FOR FURTHER INFORMATION CONTACT.

1. U.S. EPA, “Burden Reduction from the Expansion of Crop Group Program,” September 28, 2021.

2. USDA IR-4 Petition. William P. Barney. Proposed revisions to Legume Vegetables (Succulent or Dried), Crop Group 6 and Foliage of Legume Vegetables, Crop Group 7, Technical Amendment to 40 CFR 180.41(c)(6) and (c) IR-4 PR #11237 (Legume Vegetable) and PR# 11238 (Foliage of Legume Vegetables). Volumes 1-4. July 9, 2013.

3. USDA IR-4 Petition. William P. Barney. Proposed revisions to Cereal Grains, Crop Group 15 and Forage, Fodder and Straw of Cereal Grains Crop Group 16, Technical Amendment to 40 CFR 180.41(c)(9); IR-4 PR #11394. Volumes 1-3. February 18, 2014.

4. Schneider, Bernard A. Recommendations for Amending Crop Group 15 Cereal Grains and Crop Group 16 Forage, Fodder and Straw of Cereal Grains to Approve Its Members, Representative Commodities, Crop Subgroups, and Commodity Definitions Including Grasses for Sugar and Syrup Production September 6, 2018, Updated April 29, 2020.

5. Schneider, Bernard A. EPA Memorandum: Crop Grouping—Part XX: Analysis of the USDA IR-4 Petition to Amend the Crop Group Regulation 40 CFR 180.41(c)(22) and Commodity Definitions [40 CFR 180.1(g)] Related to the Crop Group 15: Cereal Grains and the Forage, Fodder and Straw of Cereal Grains Group 16 [40 CFR 180.41(c)(23)], and Commodity Definition “Grasses for Sugar and Syrup Production. June 8, 2018, updated April 29, 2020, Updated October 19, 2021.

6. USEPA. Chemistry Science Advisory Council (ChemSAC) Minutes. Response to Questions by the Crop Group Implementation Focus Group (CGIFG) on Amending the Cereal Grain Crop Group 15 and the Forage, Fodder, and Straw of the Cereal Grain Crop Group 16. April 8, 2020.

7. Schneider, Bernard A. EPA Memorandum: Response to Questions by the Crop Group Implementation Focus Group (CGIFG) on Amending the Cereal Grain Crop Group 15 and the Forage, Fodder and Straw of Cereal Grain Crop Group 16. November 18, 2019, Updated December 11, 2019 and April 8, 2020.

8. USEPA. Chemistry Science Advisory Council (ChemSAC) Minutes. Recommendations to the HED Chemistry Science Advisory Council Regarding Updates to Crop Groups 6 (Legume Vegetables) and 7 (Foliage of Legume Vegetables). October 25, 2017.

9. Schneider, Bernard A. EPA Memorandum. Crop Grouping Part XVII: Analysis of the USDA IR-4 Petition to Amend the Crop Group Regulation 40 CFR 180.41(c)(7) and Commodity Definitions (40 CFR 180.1(g)) Related to the Crop Group 6 Legume Vegetables. September 27, 2016, updated February 7, 2017.

10. Schneider, Bernard A. Recommendations for Amending Crop Group 6 Legume Vegetable to Approve Its Members, Representative Commodities, Crop Subgroups, and Associated Commodity Definitions. February 8, 2017.

11. Schneider, Bernard A. Recommendations for Amending Crop Group 7 Foliage of Legume Vegetable to Approve Its Members, Representative Commodities, Crop Subgroups, and Associated Commodity definitions. September 29, 2016.

12. U.S. EPA, “Economic Analysis of the Proposed Expansion of the Crop Group Program,” February 12, 2007.

13. U.S.D.A. 2017 Census of Agriculture, available at https://www.nass.usda.gov/Publications/AgCensus/2017/index.php#full_report.

14. U.S. EPA. Series 860—Residue Chemistry Test Guideline, OPPTS 860.1500—Crop Field Trials. EPA 712-C-96-183. August 1996.

15. U.S. EPA. Series 860—Residue Chemistry Test Guideline, OPPTS 860.1000—Background (August 1998), see footnotes 13 and 51.

16. IR-4/USDA International Crop Grouping Symposium Proceedings, 2002, available at http://www.ir4.rutgers.edu/Other/USDACropGroupingSymposium.pdf.

V. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review under Executive Orders 12866 (58 FR 51735; October 4, 1993) and 13563 (76 FR 3821, January 21, 2011).

B. Paperwork Reduction Act (PRA)

This action does not impose any new information collection requirements that would require additional review or approval by OMB under the provisions of the PRA, 44 U.S.C. 3501 et seq. However, this action is expected to reduce potential future paperwork burdens associated with seeking a tolerance. These crop groupings will enhance our ability to conduct food safety evaluations on crops for tolerance-setting purpose; allowing for tolerances to be established for the defined crop groups rather than individually for each crop. This action will also have the effect of reducing the number of residue chemistry studies because fewer representative crops would need to be tested under a crop grouping scheme than would otherwise be required.

C. Regulatory Flexibility Act (RFA)

I certify that this action will not have a significant economic impact on a substantial number of small entities under the RFA, 5 U.S.C. 601 et seq. In making this determination, EPA concludes that the impact of concern for this rule is any significant adverse economic impact on small entities, and the Agency is certifying that this rule will not have a significant economic impact on a substantial number of small entities because the rule relieves regulatory burden (Ref. 1).

This proposed action provides regulatory relief and regulatory flexibility. The new crop groups ease the process for pesticide manufacturers to obtain pesticide tolerances on greater numbers of crops. Pesticides will be more widely available to growers for use on crops, particularly specialty crops. Rather than having any adverse impact on small businesses, this proposal would relieve regulatory burden for all directly regulated small entities. We have therefore concluded that this proposed action would, if finalized, relieve regulatory burden for all directly regulated small entities.

D. Unfunded Mandates Reform Act (UMRA)

This action does not contain any unfunded mandate as described in UMRA, 2 U.S.C. 1531-1538, and does not significantly or uniquely affect small governments. This action imposes no enforceable duty on any state, local or tribal governments or the private sector.

E. Executive Order 13132: Federalism

This proposed action does not have federalism implications as specified in Executive Order 13132 (64 FR 43255, August 4, 1999). It will not have substantial direct effects on the states, on the relationship between the National Government and the states, or on the distribution of power and responsibilities among the various levels of government. Thus, Executive Order 13132 does not apply to this action.

F. Executive Order 13175; Consultation and Coordination With Indian Tribal Governments

This proposed action does not have tribal implications as specified in Executive Order 13175 (62 FR 19985, April 23, 1997) because it will not have any effect on tribal governments, on the relationship between the Federal Government and the Indian tribes, or on the distribution of power and responsibilities between the Federal Government and Indian tribes. Thus, Executive Order 13175 does not apply to this proposed action.

G. Executive Order 13045; Protection of Children From Environmental Health Risks and Safety Risks

EPA interprets Executive Order 13045 (62 FR 19885, April 23, 1997) as applying only to those regulatory actions that concern environmental health or safety risks that the EPA has reason to believe may disproportionately affect children, per the definition of “covered regulatory action” in section 2-202 of Executive Order 13045. This proposed action is not subject to Executive Order 13045 because it does not concern an environmental health risk or safety risk.

H. Executive Order 13211: Actions That Significantly Affect Energy Supply, Distribution, or Use

This proposed action is not subject to Executive Order 13211 (66 FR 28355, May 22, 2001, because it is not a significant regulatory action under Executive Order 12866.

I. National Technology Transfer and Advancement Act (NTTAA)

This proposed action does not involve technical standards as specified in NTTAA section 12(d), 15 U.S.C. 272 note.

J. Executive Order 12898: Federal Actions To Address Environmental Justice in Minority Populations and Low-Income Populations

This proposed action does not address human health or environmental risks or otherwise have disproportionately high and adverse human health or environmental effects on minority populations, low-income populations and/or indigenous peoples, as specified in Executive Order 12898 (59 FR 7629, February 16, 1994).

List of Subjects in 40 CFR Part 180

Administrative practice and procedure, Commodities, Environmental protection, Pesticides and pests.

Michal Freedhoff,
Assistant Administrator, Office of Chemical Safety and Pollution Prevention.

Therefore, for the reasons stated in the preamble, it is proposed that 40 CFR chapter I be amended as follows:

PART 180—TOLERANCES AND EXEMPTIONS FOR PESTICIDE CHEMICAL RESIDUES IN FOOD

1. The authority citation for part 180 continues to read as follows:

Authority: 21 U.S.C. 321(q), 346a and 371.

2. In § 180.1, amend the table to paragraph (g) by:

a. Revising the entry of “Bean”;

b. Removing the entry of “Bean, dry”;

c. Adding in alphabetical order entries for “Bean, dry, seed” and “Bean, edible podded”;

d. Revising the entry of “Bean, succulent”;

e. Adding in alphabetical order an entry for “Bean, succulent shelled”;

f. Revising the entry of “Pea”;

g. Removing the entry of “Pea, dry”;

h. Adding in alphabetical order entries for “Pea, dry, seed” and “Pea, edible podded”;

i. Revising the entry of “Pea, succulent”; and

j. Adding in alphabetical order an entry for “Pea, succulent shelled”.

The additions and revisions read as follows:

§ 180.1 Definitions and interpretations.

* * * * *

(g) * * *

A | B
* * * * * * *
Bean | Cicer arietinum (chickpea, garbanzo bean); Lupinus spp. (including, but not limited to, Andean lupin, blue lupin, grain lupin, sweet lupin, white sweet lupin, white lupin, and yellow lupin). Phaseolus spp. (including, but not limited to, black bean, cranberry bean, dry bean, field bean, French bean, garden bean, great northern bean, green bean, kidney bean, lima bean, navy bean, pink bean, pinto bean, red bean, scarlet runner bean, snap bean, tepary bean, yellow bean, and wax bean); Broad bean (fava bean, faba bean); Goa bean (asparagus pea and winged bean); Vigna spp. (including adzuki bean, asparagus bean, blackeyed pea, catjang bean, Chinese longbean, cowpea, crowder pea, moth bean, mung bean, rice bean, southern pea, urd bean, and yardlong bean); Guar bean; Horse gram; Jackbean; Lablab bean (hyacinth bean); Morama bean; African yam bean; American potato bean; Vegetable soybean (edamame); Sword bean; Velvetbean; Winged pea; cultivars, varieties and/or hybrids of these commodities.
Bean, dry, seed | All beans in the entry “Bean” in dry seed form.
Bean, edible podded | All beans in the entry “Bean” in edible podded form.
Bean, succulent | All beans in the entry “Bean” in edible podded or succulent shelled form.
Bean, succulent shelled | All beans in the entry “Bean” in succulent shelled form.
* * * * * * *
Pea | Cajanus cajan (pigeon pea); Cicer arietinum (chickpea, garbanzo bean); Lens culinaris (lentil); Grass pea; Pisum spp. (including, but not limited to dry pea, dwarf pea, English pea, field pea, garden pea, green pea, snap pea, snow pea, and sugar snap pea). [Note: A variety of pesticide tolerances have been previously established for pea and/or bean. Chickpea/garbanzo bean is now classified in both the bean and the pea categories. For garbanzo bean/chickpea only, the highest established pea or bean tolerance will apply to pesticide residues found in this commodity]; cultivars, varieties and/or hybrids of these commodities.
Pea, dry, seed | All peas in the entry “Pea” in dry seed form.
Pea, edible podded | All peas in the entry “Pea” in edible podded form.
Pea, succulent | All peas in the entry “Pea” in edible podded or succulent shelled form.
Pea, succulent shelled | All peas in the entry “Pea” in succulent shelled form.
* * * * * * *

* * * * *

3. Amend § 180.41 by:

a. Redesignating paragraphs (c)(30) through (35) as paragraphs (c)(34) through (39) respectively;

b. In newly redesignated paragraph (c)(39)(ii), removing “Table 3” and adding “table” in its place;

c. Redesignating paragraph (c)(29) as paragraph (c)(33) and adding a new paragraph (c)(29);

d. Redesignating paragraph (c)(28) as paragraph (c)(32);

e. Redesignating paragraph (c)(27) as paragraph (c)(31) and adding a new paragraph (c)(27);

f. Redesignating paragraph (c)(26) as paragraph (c)(30);

g. Redesignating paragraph (c)(25) as paragraph (c)(28);

h. Redesignating paragraphs (c)(14) through (24) as paragraphs (c)(16) through (26) respectively;

i. Redesignating paragraph (c)(13) as paragraph (c)(15);

j. Redesignating paragraph (c)(12) as paragraph (c)(14) and adding a new paragraph (c)(12);

k. Redesignating paragraph (c)(11) as paragraph (c)(13); and

l. Redesignating paragraph (c)(10) as paragraph (c)(11) and adding a new paragraph (c)(10).

The additions read as follows.

§ 180.41 Crop group tables.

* * * * *

(c) * * *

(10) Crop Group 6-xx. Legume Vegetable Group.

(i) Representative commodities. Bean (Phaseolus spp. or Vigna spp.; one edible podded cultivar, one succulent shelled cultivar, and one dried seed); Pea (Pisum spp; one edible podded cultivar, one succulent shelled cultivar, and one dried seed); and Soybean, seed.

(ii) Commodities. The following table is a list of all commodities included in Crop Group 6-XX and includes cultivars, varieties and/or hybrids of these commodities.

Table 1 to Paragraph (c)(10)—Crop Group 6-XX: Legume and Vegetable Group
Commodities | Related crop subgroups
African yam bean, dry seed, Sphenostylis stenocarpa (Hochst. ex A. Rich.) Harms | 6-XXE
American potato bean, dry seed, Apios americana Medik | 6-XXE
Bean (Lupinus spp.), succulent shelled (including, but not limited to Andean lupin, blue lupin, grain lupin, sweet lupin, white lupin, white sweet lupin, and yellow lupin) | 6-XXC
Bean (Lupinus spp.), dry seed (including, but not limited to Andean lupin, blue lupin, grain lupin, sweet lupin, white lupin, white sweet lupin, and yellow lupin) | 6-XXE
Bean (Phaseolus spp.), edible podded (including, but not limited to French bean, garden bean, green bean, kidney bean, navy bean, scarlet runner bean, snap bean, and wax bean) | 6-XXA
Bean (Phaseolus spp.), succulent shelled (including, but not limited to lima bean, scarlet runner bean, and wax bean) | 6-XXC
Bean (Phaseolus spp.), dry seed (including, but not limited to black bean, cranberry bean, dry bean, field bean, French bean, garden bean, great northern bean, green bean, kidney bean, lima bean, navy bean, pink bean, pinto bean, red bean, scarlet runner bean, tepary bean, and yellow bean) | 6-XXE
Bean (Vigna spp.), edible podded (including, but not limited to asparagus bean, catjang bean, Chinese longbean, cowpea, moth bean, mung bean, rice bean, urd bean, and yardlong bean) | 6-XXA
Bean (Vigna spp.), succulent shelled (including, but not limited to blackeyed pea, catjang bean, cowpea, crowder pea, moth bean, and southern pea) | 6-XXC
Bean (Vigna spp.), dry seed (including, but not limited to adzuki bean, asparagus bean, blackeyed pea, catjang bean, Chinese longbean, cowpea, crowder pea, moth bean, mung bean, rice bean, southern pea, urd bean, and yardlong bean) | 6-XXE
Broad bean (fava bean), succulent shelled, Vicia faba L. subsp. faba var. faba | 6-XXC
Broad bean (fava bean), dry seed, Vicia faba L. subsp. faba var. faba | 6-XXE
Chickpea (garbanzo), edible podded, Cicer arietinum L | 6-XXB
Chickpea (garbanzo), succulent shelled, Cicer arietinum L | 6-XXD
Chickpea (garbanzo), dry seed, Cicer arietinum L | 6-XXF
Goa bean, edible podded (asparagus pea and winged bean), Psophocarpus tetragonolobus (L.) DC | 6-XXA
Goa bean, succulent shelled (asparagus pea and winged bean), Psophocarpus tetragonolobus (L.) DC | 6-XXC
Goa bean, dry seed (asparagus pea and winged bean), Psophocarpus tetragonolobus (L.) DC | 6-XXE
Grass pea, edible podded, Lathyrus sativus L | 6-XXB
Grass pea, dry seed, Lathyrus sativus L | 6-XXF
Guar bean, edible podded, Cyamopsis tetragonoloba (L.) Taub | 6-XXA
Guar bean, dry seed, Cyamopsis tetragonoloba (L.) Taub | 6-XXE
Horse gram, dry seed, Macrotyloma uniflorum (Lam.) Verdc | 6-XXE
Jackbean, edible podded, Canavalia ensiformis (L.) DC | 6-XXA
Jackbean, succulent shelled, Canavalia ensiformis (L.) DC | 6-XXC
Jackbean, dry seed, Canavalia ensiformis (L.) DC | 6-XXE
Lablab bean (hyacinth bean), edible podded, Lablab purpureus (L.) Sweet subsp. purpureus | 6-XXA
Lablab bean (hyacinth bean), succulent shelled, Lablab purpureus (L.) Sweet subsp. purpureus | 6-XXC
Lablab bean (hyacinth bean), dry seed, Lablab purpureus (L.) Sweet subsp. purpureus | 6-XXE
Lentil, edible podded, Lens culinaris Medik. subsp. culinaris | 6-XXB
Lentil, succulent shelled, Lens culinaris Medik. subsp. culinaris | 6-XXD
Lentil, dry seed, Lens culinaris Medik. subsp. culinaris | 6-XXF
Morama bean, dry seed, Tylosema esculentum (Burch.) A. Schreib | 6-XXE
Pea (Pisum spp.), edible podded (including, but not limited to dwarf pea, green pea, snap pea, snow pea, and sugar snap pea) | 6-XXB
Pea (Pisum spp.), succulent shelled (including, but not limited to, English pea, garden pea, and green pea) | 6-XXD
Pea (Pisum spp.), dry seed (including, but not limited to dry pea, field pea, garden pea, and green pea) | 6-XXF
Pigeon pea, edible podded, Cajanus cajan (L.) Huth | 6-XXB
Pigeon pea, succulent shelled, Cajanus cajan (L.) Huth | 6-XXD
Pigeon pea, dry seed, Cajanus cajan (L.) Huth | 6-XXF
Soybean, seed, Glycine max (L.) Merr | N/A
Sword bean, edible podded, Canavalia gladiata (Jacq.) DC | 6-XXA
Sword bean, dry seed, Canavalia gladiata (Jacq.) DC | 6-XXE
Vegetable soybean, edible podded (edamame), Glycine max (L.) Merr | 6-XXA
Vegetable soybean, succulent shelled (edamame), Glycine max (L.) Merr | 6-XXC
Vegetable soybean, dry seed (edamame), Glycine max (L.) Merr | 6-XXE
Velvetbean, edible podded, Mucuna pruriens (L.) DC | 6-XXA
Velvetbean, succulent shelled, Mucuna pruriens (L.) DC | 6-XXC
Velvetbean, dry seed, Mucuna pruriens (L.) DC | 6-XXE
Winged pea, edible podded, Lotus tetragonolobus L | 6-XXA
Winged pea, dry seed, Lotus tetragonolobus L | 6-XXE
Cultivars, varieties, and/or hybrids of these commodities |

(iii) Crop subgroups. The following table identifies the crop subgroups for Crop Group 6-XX, specifies the representative commodities for each subgroup and lists all the commodities included in each subgroup.

Table 2 to Paragraph (c)(10)—Crop Group 6-XX: Subgroup Listing
Representative commodities | Commodities
Crop Subgroup 6-XXA: Edible podded bean subgroup
Any cultivar of edible podded bean Phaseolus spp. or Vigna spp | Bean (Phaseolus spp.; including, but not limited to French bean, garden bean, green bean, kidney bean, navy bean, scarlet runner bean, snap bean, and wax bean); Bean (Vigna spp.; including, but not limited to asparagus bean, catjang bean; Chinese longbean, cowpea, moth bean, mung bean, rice bean, urd bean, and yardlong bean); goa bean; guar bean; jackbean; lablab bean; vegetable soybean (edamame); sword bean; winged pea; velvetbean; cultivars, varieties, and/or hybrids of these commodities.
Crop Subgroup 6-XXB: Edible podded pea subgroup
Any cultivar of edible podded pea, Pisum spp | Pea (Pisum spp.; including, but not limited to dwarf pea, green pea, snap pea, snow pea, and sugar snap pea); grass pea; lentil; pigeon pea; chickpea; cultivars, varieties, and/or hybrids of these commodities.
Crop Subgroup 6-XXC: Succulent shelled bean subgroup
Any succulent shelled cultivar of bean, Phaseolus spp., or Vigna spp | Bean (Phaseolus spp.; including, but not limited to lima bean, scarlet runner bean, and wax bean); Bean (Vigna spp.; including, but not limited to blackeyed pea, catjang bean, cowpea, crowder pea, moth bean, and southern pea); Bean (Lupinus spp.; including, but not limited to Andean lupin, blue lupin, grain lupin, sweet lupin, white lupin, white sweet lupin, and yellow lupin); broad bean; jackbean; goa bean; lablab bean; vegetable soybean (edamame); velvetbean; cultivars, varieties, and/or hybrids of these commodities.
Crop Subgroup 6-XXD: Succulent shelled pea subgroup
Any succulent shelled cultivar of garden pea, Pisum spp | Chickpea; lentil; Pea (Pisum spp.; including, but not limited to English pea, garden pea, and green pea); pigeon pea; cultivars, varieties, and/or hybrids of these commodities.
Crop Subgroup 6-XXE: Dried shelled bean, except soybean, subgroup
Any one dried seed of bean, Phaseolus spp., or Vigna spp | African yam bean; American potato bean; Bean (Lupinus spp.; including, but not limited to Andean lupin, blue lupin, grain lupin, sweet lupin, white lupin, white sweet lupin, and yellow lupin); Bean (Phaseolus spp.; including, but not limited to black bean, cranberry bean, dry bean, field bean, French bean, garden bean, great northern bean, green bean, kidney bean, lima bean, navy bean, pink bean, pinto bean, red bean, scarlet runner bean, tepary bean, and yellow bean); Bean (Vigna spp.; including, but not limited to adzuki bean, asparagus bean, blackeyed pea, catjang bean, Chinese longbean, cowpea, crowder pea, moth bean, mung bean, rice bean, southern pea, urd bean, and yardlong bean); broad bean; guar bean; goa bean; horse gram; jackbean; lablab bean; morama bean; sword bean; winged pea; velvetbean, seed; vegetable soybean (edamame); cultivars, varieties, and/or hybrids of these commodities.
Crop Subgroup 6-XXF: Dried shelled pea subgroup
Any one dried seed of pea, Pisum spp | Pea (Pisum spp.; including, but not limited to dry pea, field pea, green pea, and garden pea); chickpea; grass pea; lentil; pigeon pea; cultivars, varieties, and/or hybrids of these commodities.

* * * * *

(12) Crop Group 7-XX. Forage and Hay Legume Vegetable Group.

(i) Representative commodities. Any cultivar of bean (Phaseolus spp. or cowpea (Vigna unguiculata (L.) Walp)); field pea (Pisum sativum L. subsp. sativum var. arvense (L.) Poir.); and soybean (Glycine max (L.) Merr.).

(ii) Commodities. The following table lists the commodities included in Crop Group 7-XX.

Table 1 to Paragraph (c)(12)—Crop Group 7-XX: Forage and Hay for Legume Vegetable Group
Representative commodities | Commodities
Any cultivar of bean (Phaseolus spp. or cowpea (Vigna unguiculata (L.) Walp)); field pea (Pisum sativum L. subsp. sativum var. arvense (L.) Poir.); and soybean (Glycine max (L.) Merr.) | Plant parts of any legume vegetable listed in crop group 6-XX that will be used as animal feed.

(iii) Crop subgroup. The following table identifies the crop subgroup for Crop Group 7-XX and specifies the representative commodities for the subgroup, and lists all the commodities included in the subgroup.

Table 2 to Paragraph (c)(12)—Crop Group 7-XX Subgroup Listing
Representative commodities | Commodities
Crop Subgroup 7-XXA. Forage and hay of legume vegetables (except soybeans) subgroup
Any cultivar of bean (Phaseolus spp. or cowpea (Vigna unguiculata (L.) Walp)); field pea (Pisum sativum L. subsp. sativum var. arvense (L.) Poir.) | Plant parts of any legume vegetable listed in crop group 6-XX (except soybeans) that will be used as animal feed.

* * * * *

(27) Crop Group 15-XX. Cereal Grain Group.

(i) Representative commodities. Wheat, barley, field corn, sweet corn, rice and either grain sorghum or proso millet.

(ii) Commodities. The following table is a list of all commodities included in Crop Group 15-XX and includes cultivars, varieties and/or hybrids of these commodities.

Table 1 to Paragraph (c)(27)—Crop Group 15-XX: Cereal Grain Group
Commodities | Related crop subgroups
Amaranth, grain, Amaranthus spp | 15-XXA
Amaranth, purple, Amaranthus cruentus L | 15-XXA
Baby corn, Zea mays L. subsp. mays | 15-XXD
Barley, Hordeum vulgare L. subsp. vulgare | 15-XXB
Buckwheat, Fagopyrum esculentum Moench | 15-XXB
Buckwheat, tartary, Fagopyrum tataricum (L.) Gaertn | 15-XXB
Canarygrass, annual, Phalaris canariensis L | 15-XXB
Cañihua, Chenopodium pallidicaule Aellen | 15-XXA
Chia, Salvia hispanica L | 15-XXA
Corn, field, Zea mays L. subsp. mays | 15-XXC
Corn, sweet, Zea mays L. subsp. mays | 15-XXD
Cram cram, Cenchrus biflorus Roxb | 15-XXA
Fonio, black, Digitaria iburua Stapf | 15-XXE
Fonio, white, Digitaria exilis (Kippist) Stapf | 15-XXE
Grain sorghum, Sorghum bicolor (L.) Moench | 15-XXE
Huauzontle grain, Chenopodium berlandieri Moq. subsp. nuttalliae (Saff.) H. D. Wilson & Heiser and Chenopodium berlandieri Moq | 15-XXA
Inca wheat, Amaranthus caudatus L | 15-XXA
Job's tears, Coix lacryma-jobi L., Coix lacryma-jobi L. var. ma-yun (Rom. Caill.) Stapf | 15-XXE
Millet, barnyard, Echinochloa frumentacea Link | 15-XXE
Millet, finger, Eleusine coracana (L.) Gaertn. subsp. coracana | 15-XXE
Millet, foxtail, Setaria italica (L.) P. Beauv. subsp. italic | 15-XXE
Millet, little, Panicum sumatrense Roth | 15-XXE
Millet, pearl, Pennisetum glaucum (L.) R. B. r | 15-XXE
Millet, proso, Panicum miliaceum L. subsp. miliaceum | 15-XXE
Oat, Avena spp | 15-XXB
Oat, Abyssinian, Avena abyssinica Hochst. ex A. Rich | 15-XXB
Oat, common, Avena sativa L | 15-XXB
Oat, naked, Avena nuda L | 15-XXB
Oat, sand, Avena strigosa Schreb | 15-XXB
Popcorn, Zea mays L. subsp. mays | 15-XXC
Princess feather, Amaranthus hypochondriacus L | 15-XXA
Psyllium, Plantago arenaria Waldst. & Kit | 15-XXA
Psyllium, blond, Plantago ovata Forssk | 15-XXA
Quinoa, Chenopodium quinoa Willd. subsp. quinoa | 15-XXA
Rice, Oryza sativa L | 15-XXF
Rice, African, Oryza glaberrima Steud | 15-XXF
Rye, Secale cereale L. subsp. cereale | 15-XXA
Teff, Eragrostis tef (Zuccagni) Trotter | 15-XXE
Teosinte, Zea mays L. subsp. mexicana (Schrad.) H. H. Iltis | 15-XXC
Triticale, X Triticosecale spp | 15-XXA
Wheat, Triticum spp | 15-XXA
Wheat, club, Triticum aestivum L. subsp. compactum (Host) Mackey | 15-XXA
Wheat, common, Triticum aestivum L. subsp. aestivum | 15-XXA
Wheat, durum, Triticum turgidum L. subsp. durum (Desf.) van Slageren | 15-XXA
Wheat, einkorn, Triticum monococcum L. subsp. monococcum | 15-XXA
Wheat, emmer, Triticum turgidum L. subsp. dicoccon (Schrank) Thell | 15-XXA
Wheat, macha, Triticum aestivum L. subsp. macha (Dekapr. & Menabde) Mackey | 15-XXA
Wheat, oriental, Triticum turgidum L. subsp. turanicum (Jakubz.) Á. Löve & D. Löve | 15-XXA
Wheat, Persian, Triticum turgidum L. subsp. carthlicum (Nevski) Á. Löve & D. Löve | 15-XXA
Wheat, Polish, Triticum turgidum L. subsp. polonicum (L.) Thell | 15-XXA
Wheat, poulard, Triticum turgidum L. subsp. turgidum | 15-XXA
Wheat, shot, Triticum aestivum L. subsp. sphaerococcum (Percival) Mackey | 15-XXA
Wheat, spelt, Triticum aestivum L. subsp. spelta (L.) Thell | 15-XXA
Wheat, timopheevi, Triticum timopheevii (Zhuk.) Zhuk. subsp. timopheevii | 15-XXA
Wheat, vavilovi, Triticum vavilovii Jakubz | 15-XXA
Wheat, wild einkorn, Triticum monococcum L. subsp. aegilopoides (Link) Thell | 15-XXA
Wheat, wild emmer, Triticum turgidum L. subsp. dicoccoides (Körn. ex Asch. & Graebn.) Thell | 15-XXA
Wheatgrass, intermediate, Iseilema prostratum (L.) Andersson | 15-XXA
Wild rice, Zizania palustris L | 15-XXF
Wild rice, eastern, Zizania aquatica L | 15-XXF
Cultivars, varieties, and hybrids of these commodities |

(iii) Crop subgroups. The following table identifies the crop subgroups for Crop Group 15-XX, specifies the representative commodities for each subgroup and lists all the commodities included in each subgroup.

Table 2 to Paragraph (c)(27)—Crop Group 15-XX: Subgroup Listing
Representative commodities | Commodities
Crop Subgroup 15-XXA: Wheat subgroup
Wheat | Amaranth, grain; Amaranth, purple; Cañihua; Chia; Cram cram; Huauzontle grain; Inca wheat; Princess feather; Psyllium; Psyllium, blond; Quinoa; Rye; Triticale; Wheat; Wheat, club; Wheat, common; Wheat, durum; Wheat, einkorn; Wheat, emmer; Wheat, macha; Wheat, oriental; Wheat, Persian; Wheat, Polish; Wheat, poulard; Wheat, shot; Wheat, spelt; Wheat, timopheevi; Wheat, vavilovi; Wheat, wild einkorn; Wheat, wild emmer; Wheatgrass, intermediate; cultivars, varieties, and hybrids of these commodities.
Crop Subgroup 15-XXB: Barley subgroup
Barley | Barley; Buckwheat; Buckwheat, tartary; Canarygrass, annual; Oat; Oat, Abyssinian; Oat, common; Oat, naked; Oat, sand; cultivars, varieties, and hybrids of these commodities.
Crop Subgroup 15-XXC: Field corn subgroup
Field corn | Corn, field; Popcorn; Teosinte; cultivars, varieties, and hybrids of these commodities.
Crop Subgroup 15-XXD: Sweet corn subgroup
Sweet corn | Baby corn; Corn, sweet; cultivars, varieties, and hybrids of these commodities.
Crop Subgroup 15-XXE: Grain sorghum and millet subgroup
Grain sorghum or Proso millet | Fonio, black; Fonio, white; Grain sorghum; Job's tears; Millet, barnyard; Millet, finger; Millet, foxtail; Millet, little; Millet, pearl; Millet, proso; Teff; cultivars, varieties, and hybrids of these commodities.
Crop Subgroup 15-XXF: Rice subgroup
Rice | Rice; Rice, African; Wild rice; Wild rice, eastern; cultivars, varieties, and hybrids of these commodities.

* * * * *

(29) Crop Group 16-XX. Forage, Hay, Stover, and Straw of Cereal Grain Group.

(i) Representative commodities. Corn, wheat, and any other cereal grain crop.

(ii) Commodities. Crop Group 16-XX includes the forage, hay, stover and straw of the commodities in Crop Group 15-XX, including cultivars, varieties and/or hybrids of these commodities.

* * * * *

[FR Doc. 2021-27057 Filed 1-7-22; 8:45 am]

BILLING CODE 6560-50-P